DEPARTMENT OF COMMERCE

International Trade Administration

[C-570-911]

Circular Welded Carbon Quality Steel Pipe from the People's Republic of China: Notice of Postponement of Preliminary Determination in the Countervailing Duty Investigation

AGENCY: Import Administration, International Trade Administration, Department of Commerce.

EFFECTIVE DATE: August 2, 2007.

FOR FURTHER INFORMATION CONTACT: Damian Felton or Nancy Decker, AD/CVD Operations, Import Administration, International Trade Administration, U.S. Department of Commerce, 14th Street and Constitution Avenue, NW, Washington, DC 20230; telephone: (202) 482-0133 and (202) 482-0196, respectively.

SUPPLEMENTARY INFORMATION:

Background

On June 27, 2007, the Department of Commerce (“the Department”) initiated the countervailing duty investigation of circular welded carbon quality steel pipe from the People's Republic of China. See Notice of Initiation of Countervailing Duty Investigation: Circular Welded Carbon Quality Steel Pipe from the People's Republic of China, 72 FR 36668 (July 5, 2007). Currently, the preliminary determination is due no later than August 31, 2007.

Postponement of Due Date for Preliminary Determinations

Section 703(b)(1) of the Tariff Act of 1930, as amended (“the Act”), requires the Department to issue the preliminary determination in a countervailing duty investigation within 65 days after the date on which the Department initiated the investigation. However, if the Department concludes that the parties concerned in the investigation are cooperating and determines that the investigation is extraordinarily complicated, section 703(c)(1)(B)(i) of the Act allows the Department to postpone making the preliminary determination until no later than the 130 days after the date on which the administering authority initiated the investigation.

The Department concludes that, thus far, the parties concerned are cooperating. Furthermore, due to the complexity of the alleged countervailable subsidy practices being investigated, which include provision of goods or services for less than adequate remuneration and government restraints on exports, it is not practicable to complete the preliminary determination of this investigation within the original time limit (i.e., August 31, 2007). Therefore, in accordance with section 703(c)(1)(B)(i) of the Act, we are fully extending the due date for the preliminary determination to no later than 130 days after the day on which the investigation was initiated. As this deadline falls on a weekend, however, the fully extended deadline is the next business day, November 5, 2007.

This notice is issued and published pursuant to section 703(c)(2) of the Act.

Dated: July 26, 2007.
Stephen J. Claeys,
Deputy Assistant Secretary for Import Administration.

[FR Doc. E7-15032 Filed 8-1-07; 8:45 am]

BILLING CODE 3510-DS-S